DEPARTMENT OF COMMERCE

National Oceanic and Atmospheric Administration

[RTID 0648-XD538]

Marine Mammals; File No. 23188

AGENCY: National Marine Fisheries Service (NMFS), National Oceanic and Atmospheric Administration (NOAA), Commerce.

ACTION: Notice; receipt of application for a permit amendment.

SUMMARY: Notice is hereby given that the Institute of Marine Sciences, University of California at Santa Cruz, 130 McAllister Way, Santa Cruz, CA 95060 (Responsible Party: Daniel Costa, Ph.D.), has applied for an amendment to Scientific Research Permit No. 23188-03.

DATES: Written comments must be received on or before December 20, 2023.

ADDRESSES: The application is available for review by selecting “Records Open for Public Comment” from the “Features” box on the Applications and Permits for Protected Species (APPS) home page, https://apps.nmfs.noaa.gov, and then selecting File No. 23188 from the list of available applications. The application and related documents are also available upon written request via email to NMFS.Pr1Comments@noaa.gov.

Written comments on this application should be submitted via email to NMFS.Pr1Comments@noaa.gov. Please include File No. 23188 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Sloan, (301) 427-8401.

SUPPLEMENTARY INFORMATION: The subject amendment to Permit No. 23188-03 is requested under the authority of the Marine Mammal Protection Act of 1972, as amended (16 U.S.C. 1361 et seq.), the regulations governing the taking and importing of marine mammals (50 CFR part 216).

Permit No. 23188, issued on September 25, 2020 (85 FR 63524), authorizes the permit holder to conduct scientific research on northern elephant seals (NES; Mirounga angustirostris) in California. The permit activities continue a long-term research program started in 1968 to study NES population growth and status, reproduction, behavioral and physiological adaptations for diving and fasting, general physiology and metabolism, and sensory physiology. Authorized activities include behavioral observations, marking, capture, biological sampling (including skin, blubber, and muscle biopsies), active and passive acoustics, instrumentation, translocation studies, short-term captive holding for laboratory studies, use of hormone challenges and standard clinical tracer techniques, and unmanned aircraft system surveys. The permit authorizes unintentional mortalities of up to 5 NES annually during research, and euthanasia of up to 10 moribund or abandoned NES pups annually. Three amendments to the permit were issued to: increase take numbers and add a new study area (No. 23188-01; April 27, 2021); add new study areas and update methods for acoustic studies (No. 23188-02; November 19, 2021); and update methods for biological sampling and instrumentation (No. 23188-03; February 2, 2022). The permit holder is requesting the permit be amended to include authorization for additional reproductive studies to investigate embryonic diapause in NES. Over a 2-year study period, 39 adult females would be captured, anesthetized, marked, sampled, and instrumented, as currently authorized. Researchers would use a transrectal ultrasound to check for pregnancy and non-pregnant females would then have uterine endoscopy, cytology, lavage, and biopsy sampling. The lavage and biopsy procedures may result in egg, sperm, or blastocyst removal from the uterus. A subset of these females may be captured and sampled twice per year. An additional 390 NES may be unintentionally harassed during these reproductive studies. The amendment would be valid for the duration of the permit, until September 30, 2025.

A draft environmental assessment (EA) has been prepared in compliance with the National Environmental Policy Act of 1969 (42 U.S.C. 4321 et seq.), to examine whether significant environmental impacts could result from issuance of the proposed scientific research permit amendment. The draft EA is available for review and comment simultaneous with the scientific research permit amendment application.

Concurrent with the publication of this notice in the Federal Register, NMFS is forwarding copies of this application to the Marine Mammal Commission and its Committee of Scientific Advisors.

Dated: November 14, 2023.
Julia M. Harrison,
Chief, Permits and Conservation Division, Office of Protected Resources, National Marine Fisheries Service.

[FR Doc. 2023-25574 Filed 11-17-23; 8:45 am]

BILLING CODE 3510-22-P